DEPARTMENT OF COMMERCE

International Trade Administration

[A-351-828]

Certain Hot-Rolled Flat-Rolled Carbon-Quality Steel Products From Brazil; Final Results of the Expedited Sunset Review of Antidumping Duty Order

AGENCY: Import Administration, International Trade Administration, Department of Commerce.

ACTION: Notice of final results of expedited sunset reviews of antidumping duty order on certain hot-rolled flat-rolled carbon-quality steel products from Brazil.

SUMMARY: On May 3, 2004, the Department of Commerce (“the Department”) initiated a sunset review of the antidumping duty order of certain hot-rolled flat-rolled carbon-quality steel products (“hot-rolled steel”) from Brazil.¹ On the basis of the notice of intent to participate, adequate substantive comments filed on behalf of the domestic interested parties, and inadequate response from respondent interested parties (in this case, no response), the Department conducted an expedited sunset review of the antidumping duty order pursuant to section 751(c)(3)(B) of the Act and section 351.218(e)(1)(ii)(B) of the Department's regulations. As a result of this sunset review, the Department determined that revocation of the antidumping duty order would likely lead to continuation or recurrence of dumping at the levels listed below in the section entitled “Final Results of Review”.

¹ See Initiation of Five-Year (“Sunset”) Reviews, 69 FR 24118 (May 3, 2004) (“Notice of Initiation”).

EFFECTIVE DATE: September 9, 2004.

FOR FURTHER INFORMATION CONTACT: Martha V. Douthit, Office of Policy, Import Administration, International Trade Administration, U.S. Department of Commerce, 14th Street & Constitution Avenue, NW., Washington DC, 20230; telephone: 202-482-5050.

SUPPLEMENTARY INFORMATION:

Background

On May 3, 2004, the Department initiated a sunset review of the antidumping duty order on hot-rolled steel products from Brazil in accordance with section 751(c) of the Tariff Act of 1930, as amended (“the Act”). See Notice of Initiation, 69 FR 24118 (May 3, 2004).

The Department received notices of intent to participate within the applicable deadline specified in section 351.218(d)(1)(i) of the Department's regulations on behalf of Nucor Corporation (“Nucor”), United States Steel Corporation (“U.S. Steel”), International Steel Group, Inc. (“ISG”), Gallatin Steel Company (“Gallatin”), IPSCO Steel Inc. (“IPSCO”), and Steel Dynamics, Inc. (“SDI”) (collectively “domestic interested parties”). The domestic interested parties claimed interested-party status as U.S. producers of subject merchandise as defined by section 771(9)(C) of the Act.

The Department received complete substantive responses from the domestic interested parties within the 30-day deadline specified in the Department's regulations under § 351.218(d)(3)(i). However, the Department did not receive any responses from respondent interested parties to this proceeding. As a result, pursuant to section 751(c)(3)(B) of the Act and 19 CFR 351.218(e)(1)(ii)(C)(2), the Department conducted an expedited sunset review of this antidumping duty order.

This antidumping duty order remains in effect for manufacturers, producers, and exporters of hot-rolled steel from Brazil.

Scope of the Order

See Appendix 1.

Analysis of Comments Received

All issues raised in this sunset review are addressed in the Issues and Decision Memorandum (“Decision Memo”) from Ronald K. Lorentzen, Acting Director, Office of Policy, Import Administration, to James J. Jochum, Assistant Secretary for Import Administration, dated August 31, 2004, which is hereby adopted by this notice. The issues discussed in the Decision Memo include the likelihood of continuation or recurrence of dumping and the magnitude of the margin likely to prevail if the antidumping duty order were revoked. Parties can find a complete discussion of all issues raised in this sunset review and the corresponding recommendations in this public memo, which is on file in room B-099 of the main Commerce Building.

In addition, a complete version of the Decision Memo can be accessed directly on the Web at http://ia.ita.doc.gov/frn, under the heading “September 2004.” The paper copy and electronic version of the Decision Memo are identical in content.

Final Results of Review

The Department determines that revocation of the antidumping duty order on hot-rolled steel from Brazil would likely lead to continuation or recurrence of dumping at the following weighted-average margins:

Manufacturers/producers/exporter's | Weighted- average margin (percent)
Compendia Siderurgica Nacional (CSN) | 41.27
Usinas Siderurgicas De Minas Gerais (USIMINAS)/ | 43.40
Companhia Siderurgica Paulista (COSIPA) | 43.40
“All Others” | 42.12

This notice also serves as the only reminder to parties subject to administrative protective orders (“APO”) of their responsibility concerning the return or destruction of proprietary information disclosed under APO in accordance with 19 CFR 351.305. Timely notification of the return or destruction of APO materials or conversion to judicial protective order is requested. Failure to comply with the regulations and terms of an APO is a violation which is subject to sanction.

We are issuing and publishing the results and notice in accordance with sections 751(c), 752, and 777(i)(1) of the Act.

Dated: August 31, 2004.
Jeffrey A. May,
Acting Assistant Secretary for Import Administration.

Appendix 1—Scope of the Order: Certain Hot-Rolled Flat-Rolled Carbon-Quality Steel Products from Brazil

For purposes of this order, the products covered are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm, but not exceeding 1250 mm and of a thickness of not less than 4 mm, not in coils and without patterns in relief) of a thickness not less than 4.0 mm is not included within the scope of this order. Specifically included in this scope are vacuum degassed, fully stabilized (commonly referred to as interstitial-free (“IF”) steels, high strength low alloy (“HSLA”) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum. Steel products to be included in the scope of this order, regardless of HTSUS definitions, are products in which: (1) Iron predominates, by weight, over each of the other contained elements; (2) the carbon content is 2 percent or less, by weight; and (3) none of the elements listed below exceeds the quantity, by weight, respectively indicated:

1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this order unless otherwise excluded. The following products, by way of example, are outside and/or specifically excluded from the scope of this order:

—Alloy hot-rolled steel products in which at least one of the chemical elements exceeds those listed above (including e.g., ASTM specifications A543, A387, A514, A517, and A506).

—SAE/AISI grades of series 2300 and higher.

—Ball bearing steels, as defined in the HTSUS.-Tool steels, as defined in the HTSUS.

—Silico-manganese (as defined in the HTSUS) or silicon electrical steel with a silicon level exceeding 1.50 percent.-ASTM specifications A710 and A736.

—USS Abrasion-resistant steels (USS AR 400, USS AR 500).

—Hot-rolled steel coil which meets the following chemical, physical and mechanical specifications:

(Note: The following TABLE/FORM is too wide to be displayed on one screen. You must print it for a meaningful review of its contents. The table has been divided into multiple pieces with each piece containing information to help you assemble a printout of the table. The information for each piece includes: (1) A three line message preceding the tabular data showing by line # and character # the position of the upper left-hand corner of the piece and the position of the piece within the entire table; and (2) a numeric scale following the tabular data displaying the character positions.)

This is piece 1.—It begins at character 1 of table line 1.

C Mn P S Si Cr

0.10-0.14% .. 0.90% Max 0.025% Max 0.005% Max .. 0.30-0.50% .. 0.30-0.50% ...

1...+...10....+...20....+...30....+...40....+...50....+...60....+...70....+...

This is piece 2.—It begins at character 79 of table line 1.

Cu Ni

0.20-0.40% 0.20%

Max.

79....+...90....+...

Width = 44.80 inches maximum; Thickness = 0.063-0.198 inches;

Yield Strength = 50,000 ksi minimum; Tensile Strength = 70,000-88,000 psi.

—Hot-rolled steel coil which meets the following chemical, physical and mechanical specifications:

(Note: The following TABLE/FORM is too wide to be displayed on one screen. You must print it for a meaningful review of its contents. The table has been divided into multiple pieces with each piece containing information to help you assemble a printout of the table. The information for each piece includes: (1) A three line message preceding the tabular data showing by line # and character # the position of the upper left-hand corner of the piece and the position of the piece within the entire table; and (2) a numeric scale following the tabular data displaying the character positions.)

This is piece 1.—It begins at character 1 of table line 1.

C Mn P S Si Cr

0.10-0.16% .... 0.70-0.90% 0.025% Max 0.006% Max .. 0.30-0.50% .. 0.30-0.50%

Mo .......... ............ .......... .......... ............ ............

0.21% Max ... ............ .......... .......... ............ ............

1...+...10....+...20....+...30....+...40....+...50....+...60....+...70....+....

This is piece 2.—It begins at character 80 of table line 1.

Cu Ni

0.25% Max 0.20%

Max

......... ........

....... ......

80..+...90....+....

Width = 44.80 inches maximum; Thickness = 0.350 inches maximum;

Yield Strength = 80,000 ksi minimum; Tensile Strength = 105,000 psi Aim.

—Hot-rolled steel coil which meets the following chemical, physical and mechanical specifications:

(Note: The following TABLE/FORM is too wide to be displayed on one screen. You must print it for a meaningful review of its contents. The table has been divided into multiple pieces with each piece containing information to help you assemble a printout of the table. The information for each piece includes: (1) A three line message preceding the tabular data showing by line # and character # the position of the upper left-hand corner of the piece and the position of the piece within the entire table; and (2) a numeric scale following the tabular data displaying the character positions.)

This is piece 1.—It begins at character 1 of table line 1.

C Mn P S Si Cr

0.10-0.14% .. 1.30-1.80% .. 0.025% Max 0.005% Max .. 0.30-0.50% .. 0.50-0.70%

V(wt.) ...... Cb .......... .......... .......... ............ ............

0.10% Max ... 0.08% Max ... .......... .......... ............ ............

1...+...10....+...20....+...30....+...40....+...50....+...60....+...70....+....

This is piece 2.—It begins at character 80 of table line 1.

Cu Ni

.. 0.20-0.40% 0.20%

Max............. .......

........... ......

80..+...90....+....0..

Width = 44.80 inches maximum; Thickness = 0.350 inches maximum;

Yield Strength = 80,000 ksi minimum; Tensile Strength = 105,000 psi Aim.

—Hot-rolled steel coil which meets the following chemical, physical and mechanical specifications:

(Note: The following TABLE/FORM is too wide to be displayed on one screen. You must print it for a meaningful review of its contents. The table has been divided into multiple pieces with each piece containing information to help you assemble a printout of the table. The information for each piece includes: (1) a three line message preceding the tabular data showing by line # and character # the position of the upper left-hand corner of the piece and the position of the piece within the entire table; and (2) a numeric scalefollowing the tabular data displaying the character positions.)

This is piece 1.—It begins at character 1 of table line 1.

C Mn P S Si Cr Cu

0.15% Max. 1.40% Max 0.025% Max 0.010% Max 0.50% Max 1.00% Max 0.50% Max

Nb ........ Ca ....... Al ........ .......... ......... ......... .........

0.005% Min Treated .. 0.01-0.70% .......... ......... ......... .........

1...+...10....+...20....+...30....+...40....+...50....+...60....+...70....+....

This is piece 2.—It begins at character 80 of table line 1.

Ni

0.20%Max.....

........

80..+...

Width = 39.37 inches; Thickness = 0.181 inches maximum;

Yield Strength = 70,000 psi minimum for thicknesses <= 0.148 inches and 65,000 psi minimum for thicknesses > 0.148 inches; Tensile Strength = 80,000 psi minimum.

—Hot-rolled dual phase steel, phase-hardened, primarily with a ferritic-martensitic microstructure, contains 0.9 percent up to and including 1.5 percent silicon by weight, further characterized by either (i) tensile strength between 540 N/mm ² and 640 N/mm ² and an elongation percentage “ 26 percent for thicknesses of 2 mm and above, or (ii) a tensile strength between 590 N/mm ² and 690 N/mm ² and an elongation percentage “ 25 percent for thicknesses of 2 mm and above.

—Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

—Grade ASTM A570-50 hot-rolled steel sheet in coils or cut lengths, width of 74 inches (nominal, within ASTM tolerances), thickness of 11 gauge (0.119 inch nominal), mill edge and skin passed, with a minimum copper content of 0.20%.

The merchandise subject to this order is classified in the Harmonized Tariff Schedule of the United States (HTSUS) at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00. Certain hot-rolled flat-rolled carbon-quality steel covered by this order, including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and Customs purposes, the written description of the merchandise under this order is dispositive.

[FR Doc. E4-2101 Filed 9-8-04; 8:45 am]

BILLING CODE 3510-DS-P